DEPARTMENT OF LABOR

Pension and Welfare Benefits Administration

Agency Information Collection Activities; Announcement of OMB Approval

AGENCY: Pension and Welfare Benefits Administration, Department of Labor.

ACTION: Notice.

SUMMARY: The Pension and Welfare Benefits Administration (PWBA) is announcing that a collection of information has been approved by the Office of Management and Budget (OMB) under the Paperwork Reduction Act of 1995 for the Interim Final Rule for Reporting by Multiple Employer Welfare Arrangements and Certain Other Entities That Offer or Provide Coverage for Medical Care to the Employees of Two or More Employers (Interim Final Reporting Rule). This notice announces the OMB approval number and expiration date.

FOR FURTHER INFORMATION CONTACT: Copies of the Form M-1 and instructions (as well as filer's guides) may be obtained by calling PWBA's Publication Hotline at 1-800-998-7542 and via the Internet at: www.dol.gov/dol/pwba. Individuals with questions about the Form M-1, and individuals who would like assistance in completing the Form M-1, should call the PWBA help desk at (202) 219-8818.

Address requests for copies of the information collection request (ICR) to Gerald B. Lindrew, U.S. Department of Labor, Pension and Welfare Benefits Administration, 200 Constitution Avenue, N.W. Room N-5647, Washington, D.C. 20210. Telephone: (202) 219-4782. This is not a toll-free number.

SUPPLEMENTARY INFORMATION: On February 11, 2000, PWBA published an Interim Final Reporting Rule and the Annual Report for Multiple Employer Welfare Arrangements and Certain Entities Claiming Exception (Form M-1)(65 FR 7152). On that day, PWBA also published an Interim Final Rule for the Assessment of Civil Penalties under Section 502(c)(5) of ERISA and an Interim Rule Governing Procedures for Administrative Hearings Regarding the Assessment of Civil Penalties under Section 502(c)(5) of ERISA (Interim Final Penalty Rules, 65 FR 7181). Although written comments on the Interim Final Reporting Rule and Interim Final Penalty Rules may be submitted through March 13, 2000, the Department submitted the information collection request (ICR) included in the Interim Final Reporting Rule to OMB using emergency procedures, and requested approval by March 6, 2000.

On March 2, 2000, OMB approved the ICR under emergency provisions of the Paperwork Reduction Act of 1995 (44 U.S.C. 3501 et seq) and 5 CFR 1320. The approval will expire on August 31, 2000. The control number assigned to this ICR by OMB is 1210-0116. Although the ICR has been approved on an emergency basis, interested persons may still submit comments on the ICR through April 11, 2000 to the Office of Information and Regulatory Affairs, Office of Management and Budget, Room 10235, New Executive Office Building, Washington, D.C. 20503; Attention: Desk Officer for Pension and Welfare Benefits Administration. PWBA will take these comments into consideration in finalizing the form and in preparing the application for continuing approval of the ICR that will be submitted to OMB prior to the expiration of the emergency approval.

The Form M-1 that was formerly available from PWBA's Publication Hotline and Internet website has now been revised to include the OMB control number, which was not available at the time of publication on February 11, 2000. Under 5 CFR 1320.5(b), an Agency may not conduct or sponsor, and a person is not required to respond to a collection of information, unless the collection displays a valid control number. Accordingly, persons required to file the Form M-1 may wish to obtain and file a copy of the Form M-1 displaying the OMB control number.

Dated: March 7, 2000.
Gerald B. Lindrew,
Deputy Director, Office of Policy and Research, Pension and Welfare Benefits Administration.

[FR Doc. 00-5910 Filed 3-9-00; 8:45 am]

BILLING CODE 4510-29-M